DEPARTMENT OF TRANSPORTATION

Coast Guard

[USCG-2003-14495]

Towing Safety Advisory Committee

AGENCY: Coast Guard, DOT.

ACTION: Notice of meetings.

SUMMARY: The Towing Safety Advisory Committee (TSAC) and its working groups will meet as required to discuss various issues relating to shallow-draft inland and coastal waterway navigation and towing safety. All meetings will be open to the public.

DATES: TSAC will meet on Wednesday, March 19, 2003, from 8 a.m. to 12:30 p.m. The working groups will meet on Tuesday, March 18, 2003, from 8 a.m. to 3:30 p.m. These meetings may close early if all business is finished. Written material and requests to make oral presentations should reach the Coast Guard on or before February 28, 2003. Requests to have a copy of your material distributed to each member of the Committee or working groups should reach the Coast Guard on or before February 28, 2003.

ADDRESSES: On March 19, 2003, TSAC will meet in the East and West Meeting Rooms, the Hotel Monteleone hotel, 214 Rue Royale New Orleans, Louisiana 70130-2201. On March 18, 2003, the working groups will meet in the Vieux Carre Room at the same address and then, if necessary, move to separate spaces designated at that time. Send written material and requests to make oral presentations to Mr. Gerald P. Miante, Commandant (G-MSO-1), U.S. Coast Guard Headquarters, 2100 Second Street SW., Washington, DC 20593-0001. This notice and a draft task statement are available on the Internet at http://dms.dot.gov.

FOR FURTHER INFORMATION CONTACT: Mr. Gerald P. Miante, Assistant Executive Director, or Petty Officer Bryan Wick, telephone 202-267-0214, fax 202-267-4570, or e-mail at: gmiante@comdt.uscg.mil.

SUPPLEMENTARY INFORMATION: Notice of these meetings is given under the Federal Advisory Committee Act, 5 U.S.C. App. 2.

Agenda of Committee Meeting

The agenda tentatively includes the following:

(1) Status Report of the Crew Alertness Working Group;

(2) Status Report of the Towing Vessel Regulatory Review Working Group;

(3) Status Report of the Maritime Security Working Group and Consideration of any Recommendations to the Coast Guard Regarding Potential Rules;

(4) Status Report of the Study Group on Adequacy of Navigation Lights for Inland River Barge Tows; and

(5) Consideration of a draft Task Statement regarding the issue of travel, or “deadhead,” time.

Procedural

All meetings are open to the public. Please note that the meetings may close early if all business is finished. Members of the public may make oral presentations during the meetings. If you would like to make an oral presentation at a meeting, please notify the Assistant Executive Director no later than February 28, 2003. Written material for distribution at a meeting should reach the Coast Guard no later than February 28, 2003. If you would like a copy of your material distributed to each member of the committee or working groups in advance of a meeting, please submit 17 copies to the Assistant Executive Director no later than February 28, 2003. You may also submit this material electronically to the e-mail address in FOR FURTHER INFORMATION CONTACT, no later than February 28, 2003.

Information on Services for Individuals With Disabilities

For information on facilities or services for individuals with disabilities or to request special assistance at the meetings, contact the Assistant Executive Director as soon as possible.

Dated: February 12, 2003.
Howard L. Hime,
Acting Director of Standards, Marine Safety, Security & Environmental Protection.

[FR Doc. 03-4146 Filed 2-19-03; 8:45 am]

BILLING CODE 4910-15-P